DEPARTMENT OF TRANSPORTATION

Office of the Secretary

Aviation Proceedings, Agreements Filed the Week Ending March 14, 2009

The following Agreements were filed with the Department of Transportation under the Sections 412 and 414 of the Federal Aviation Act, as amended (49 U.S.C. 1382 and 1384) and procedures governing proceedings to enforce these provisions. Answers may be filed within 21 days after the filing of the application.

Docket Number: DOT-OST-2009-0064.

Date Filed: March 11, 2009.

Parties: Members of the International Air Transport Association.

Subject: TC12 North, Mid, South Atlantic—Middle East, Africa, Flex Fares Package (Memo NMS-ME 0296/Memo NSM-AFR 0279).

Minutes: TC12 North, Mid, South Atlantic—Middle East, Africa. (Memo NMS-ME 0295/Memo NSM-AFR 0278).

Intended Effective Date: 1 May 2010.

Docket Number: DOT-OST-2009-0065.

Date Filed: March 11, 2009.

Parties: Members of the International Air Transport Association.

Subject: TC2 Within Africa, Resolutions and Specified Fares Tables (Memo 0188).

Minutes: TC2 Within Africa, Within Middle East, Middle East-Africa. (Memo 0190, 0200, 0170).

Intended Effective Date: 1 May 2009.

Docket Number: DOT-OST-2009-0066.

Date Filed: March 11, 2009.

Parties: Members of the International Air Transport Association.

Subject: TC2 Within Middle East, Resolutions and Specified Fares Tables (Memo 0198).

Minutes: TC2 Within Africa, Within Middle East, Middle East-Africa. (Memo 0190, 0200, 0170).

Intended Effective Date: 1 May 2009.

Docket Number: DOT-OST-2009-0067.

Date Filed: March 11, 2009.

Parties: Members of the International Air Transport Association.

Subject: TC2 Within Middle East, Resolutions and Specified Fares Tables (Memo 0198).

Minutes: TC2 Within Africa, Within Middle East, Middle East-Africa (Memo 0190, 0200, 0170).

Intended Effective Date: 1 May 2009.

Barbara J. Hairston,
Supervisory Dockets Officer, Docket Operations, Alternate Federal Register Liaison.

[FR Doc. E9-7157 Filed 3-30-09; 8:45 am]

BILLING CODE 4910-9X-P